DEPARTMENT OF THE INTERIOR

Bureau of Land Management

[LLWYP00000-L51100000-GA0000-LVEMK09CK380, WYW172684]

Notice of Availability of the Buckskin Mine Hay Creek II Coal Lease-by-Application Final Environmental Impact Statement, Wyoming

AGENCY: Bureau of Land Management, Interior.

ACTION: Notice of Availability.

SUMMARY: In accordance with the National Environmental Policy Act of 1969 (NEPA), and the Federal Land Policy and Management Act of 1976 (FLPMA), the Bureau of Land Management (BLM) announces the availability of the Buckskin Mine Hay Creek II Coal Lease-by-Application (LBA) Final Environmental Impact Statement (EIS). The tract is being considered for sale as a result of a coal lease application received from the operator of the adjacent Buckskin Mine in Campbell County, Wyoming.

DATES: To ensure comments will be considered, the BLM must receive written comments on the Buckskin Mine Hay Creek II Final EIS within 30 days following the date the Environmental Protection Agency (EPA) publishes its Notice of Availability in the Federal Register.

ADDRESSES: You may submit comments by any of the following methods:

• E-mail: Hay_Creek_II_WYMail@blm.gov. Please include “Hay Creek II Coal FEIS—Teresa Johnson” in the subject line.

• FAX: 307-261-7587, Attn: Teresa Johnson.

• Mail: Wyoming High Plains District Office, Bureau of Land Management, Attn: Teresa Johnson, 2987 Prospector Drive, Casper, Wyoming 82604.

• Written comments may also be hand-delivered to the BLM Wyoming High Plains District Office in Casper.

Copies of the Final EIS are available at the following BLM office locations: BLM Wyoming State Office, 5353 Yellowstone Road, Cheyenne, Wyoming 82009; and the BLM Wyoming High Plains District Office, 2987 Prospector Drive, Casper, Wyoming 82604. The Final EIS is available electronically at the following Web site: http://www.blm.gov/wy/st/en/info/NEPA/documents/hpd/HayCreekII.html.

FOR FURTHER INFORMATION CONTACT: Teresa Johnson or Mike Karbs at the BLM Wyoming High Plains District Office address above or telephone 307-261-7600.

SUPPLEMENTARY INFORMATION: The Final EIS analyzes and discloses to the public direct, indirect, and cumulative environmental impacts of issuing the Hay Creek II LBA, case number WYW172684, in the Wyoming portion of the decertified Powder River Federal Coal Production Region. The BLM is considering issuing a coal lease as a result of a March 24, 2006, application submitted by Kiewit Mining Properties, Inc., to lease Federal coal near the Buckskin Mine approximately 12 miles north of Gillette, Wyoming.

Kiewit Mining Properties, Inc. proposes to lease the tract as a maintenance tract to extend the life of the existing mining operations at the Buckskin Mine under the provisions of the Leasing on Application regulations at 43 CFR subpart 3425. BLM personnel reviewed the application and delineated a proposed tract that would best serve the public interest. The BLM's preferred tract delineation contains approximately 1,567 acres and approximately 277 million tons of in-place coal. The lands are in Campbell County, Wyoming and are generally located within sections 7 through 9 and 17 through 19 in T. 52 N., R. 72 W., 6th PM, Wyoming. If a decision is made to lease the coal, the lands will be specifically described in the Notice of Coal Lease Sale.

The Office of Surface Mining Reclamation and Enforcement (OSM) and the Wyoming Department of Environmental Quality (WDEQ) are cooperating agencies in the preparation of this Final EIS.

If the tract is leased as a maintenance tract, the new lease will be incorporated into the existing mining and reclamation plan for the adjacent mine. The Secretary of the Interior (Secretary) must approve the revision to the Mineral Leasing Act (MLA) mining plan before the Federal coal can be mined. If the tract is leased, OSM is the Federal agency that would be responsible for recommending approval, approval with conditions, or disapproval of the revised MLA mining plan to the Secretary. The WDEQ has entered into a cooperative agreement with the Secretary to regulate surface coal mining operations on Federal and non-Federal lands within Wyoming.

On December 21, 2007, the BLM published a Notice of Intent (NOI) to prepare an EIS for the Hay Creek II coal lease application in the Federal Register (72 FR 72750). A notice announcing the availability of the Draft EIS was published in the Federal Register by the EPA on March 12, 2010, (75 FR 11882). A 60-day comment period on the Draft EIS commenced with publication of the EPA's notice of availability and ended on May 10, 2010. The BLM published a Notice of Availability and Notice of Public Hearing in the Federal Register on March 12, 2010, (75 FR 11906). The BLM's Federal Register notice announced the date and time of a public hearing, which was held on April 22, 2010, in Gillette, Wyoming. The purpose of the hearing was to solicit comments on the Draft EIS, fair market value, and the maximum economic recovery of the Federal coal. No statements were given as testimony at the public hearing. During the Draft EIS comment period, the BLM received eight comment letters, which are included in an appendix to the Final EIS with BLM's responses to the comments.

The Final EIS analyzes leasing the Hay Creek II coal tract as-applied-for as the Proposed Action. Under the Proposed Action, a competitive sale would be held and a lease issued for Federal coal in the tract as applied for by Kiewit Mining Properties, Inc. As part of the coal leasing process, the BLM identified an alternative tract configuration, which is the preferred alternative, to assure the maximum economic recovery of the coal, to avoid isolating or bypassing marketable coal, and to prompt competitive interest in the unleased Federal coal for this area. The alternate tract configuration that BLM has identified is described and analyzed as a separate alternative in the Final EIS. Under this alternative, a competitive sale would be held and a lease would be issued for Federal coal lands included in a tract modified by the BLM. The Final EIS also analyzes the alternative of rejecting the application to lease Federal coal as the No Action Alternative. The Proposed Action and alternatives being considered in the Final EIS are in conformance with the Resource Management Plan for Public Lands Administered by the Bureau of Land Management Buffalo Field Office (2001). A Record of Decision (ROD) will be prepared after the close of the 30-day review period for the Final EIS. Comments received on the Final EIS will be considered during preparation of the ROD.

Copies of the Final EIS have been mailed to all parties on the mailing list for this project. Requests for copies can be made in writing, by facsimile, or electronically to the addresses listed at the beginning of this notice. The BLM asks that those submitting comments on the Final EIS make them as specific as possible with reference to page numbers and chapters of the document. Comments that contain only opinions or preferences will not receive a formal response; however, they will be considered as part of the BLM decision-making process. Please note that comments and information submitted including names, street addresses, and e-mail addresses of respondents will be available for public review and disclosure at the above address during regular business hours (7:45 a.m. through 4:30 p.m.), Monday through Friday, except holidays.

Before including your address, phone number, e-mail address, or other personal identifying information in your comment, please be aware that your entire comment, including your personal identifying information, may be made publicly available at any time. While you may ask us in your comment to withhold your personal identifying information from public review, we cannot guarantee that we will be able to do so.

Donald A. Simpson,
State Director.

[FR Doc. 2011-19093 Filed 7-28-11; 8:45 am]

BILLING CODE 4310-22-P